DEPARTMENT OF TRANSPORTATION

Office of the Secretary

[OST Docket No. OST-2007-27401]

RIN 2105-ADO4

Application To Renew Information Collection Request OMB No. 2105-0551

AGENCY: Office of the Secretary, Department of Transportation (Department or DOT).

ACTION: Notice and request for comments.

SUMMARY: In accordance with the Paperwork Reduction Act of 1995 (44 U.S.C. Chapter 35, as amended) this notice announces the Department of Transportation intention to apply to the Office of Management and Budget (OMB) to renew approval of the information collection request (ICR) OMB No. 2105-0551, “Reporting Requirements for Disability-Related Complaints.” The current information collection request approved by OMB expires April 30, 2007.

DATES: Comments on this notice must be received by April 30, 2007.

ADDRESSES: Comments on this action must refer to the docket and notice numbers cited at the beginning of this document and must be submitted to the Docket Management Facility (SVC-124), Office of the Secretary, located on the Plaza Level of the Nassif Building, U.S. Department of Transportation, Room PL-401, 400 Seventh Street, SW., Washington, DC 20590-0001. The DOT Docket Facility is open to the public from 9 a.m. to 5 p.m., Monday through Friday, except federal holidays. The telephone number is 202-366-9329. Comments will be available for inspection at this address and will also be viewable via the Web site for the Docket Management System at http://dms.dot.gov.

FOR FURTHER INFORMATION CONTACT: Damon P. Whitehead or Blane A. Workie, Office of the General Counsel, 400 7th Street, SW., Room 4116, Washington, DC 20590, (202) 366-9342 (voice), (202) 366-7152 (Fax) or damon.whitehead@ dot.gov or blane.workie@dot.gov (E-mail). Arrangements to receive this document in an alternative format may be made by contacting the above-named individuals.

SUPPLEMENTARY INFORMATION: Title: Reporting Requirements for Disability-Related Complaints.

OMB Control Number: 2105-0551.

Type of Request: Renewal of currently approved Information Collection Request.

Background: On July 8, 2003, the Office of the Secretary published a final rule that requires most certificated U.S. and foreign air carriers operating to, from and within the U.S. that conduct passenger-carrying service utilizing large aircraft to record complaints that they receive alleging inadequate accessibility or discrimination on the basis of disability. The carriers must also categorize these complaints according to the type of disability and nature of complaint, prepare a summary report annually of the complaints received during the preceding calendar year, submit the report to the Department of Transportation's Aviation Consumer Protection Division, and retain copies of correspondence and records of action taken on the reported complaints for three years. The Rule requires carriers to submit their annual report via the World Wide Web except if the carrier can demonstrate an undue burden by doing so and receives permission from the Department to submit it in an alternative manner. The first required report covered complaints received during calendar year 2004 and was due by January 25, 2005. Subsequent reports of disability-related complaints received by carriers are due each year on the last Monday in January for the prior calendar year. On April 23, 2004, OMB approved information collection of disability-related complaints, “Reporting Requirements for Disability-related Complaints” through April 30, 2007.

Respondents: Certificated U.S. and foreign air carriers operating to, from and within the United States that conduct passenger-carrying service with large aircraft.

Estimated Number of Respondents: 370.

Estimated Total Burden on Respondents: 185 hours.

Comment are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Issued in Washington, DC, on February 26, 2007, under authority delegated in 49 CFR part 1.
Rosalind A. Knapp,
Acting General Counsel.

[FR Doc. E7-3665 Filed 2-28-07; 8:45 am]

BILLING CODE 4910-9X-P